DEPARTMENT OF THE TREASURY

Alcohol and Tobacco Tax and Trade Bureau

27 CFR Part 9

[Notice No. 71]

RIN 1513-AB27

Proposed Establishment of the Paso Robles Westside Viticultural Area (2006R-087P)

AGENCY: Alcohol and Tobacco Tax and Trade Bureau, Treasury.

ACTION: Notice of proposed rulemaking.

SUMMARY: The Alcohol and Tobacco Tax and Trade Bureau proposes to establish the 179,622-acre “Paso Robles Westside” viticultural area in San Luis Obispo County, California. The proposed viticultural area is totally within the existing Paso Robles and Central Coast viticultural areas. We designate viticultural areas to allow vintners to better describe the origin of their wines and to allow consumers to better identify wines they may purchase. We invite comments on this proposed addition to our regulations.

DATES: We must receive written comments on or before March 26, 2007.

ADDRESSES: You may send comments to any of the following addresses:

• Director, Regulations and Rulings Division, Alcohol and Tobacco Tax and Trade Bureau, Attn: Notice No. 71, P.O. Box 14412, Washington, DC 20044-4412.

• 202-927-8525 (facsimile).

• nprm@ttb.gov (e-mail).

• http://www.ttb.gov/wine/wine_rulemaking.shtml. An online comment form is posted with this notice on our Web site.

• http://www.regulations.gov (Federal e-rulemaking portal; follow instructions for submitting comments).

You may view copies of this notice, the petition, the appropriate maps, and any comments we receive about this proposal by appointment at the TTB Information Resource Center, 1310 G Street, NW., Washington, DC 20220. To make an appointment, call 202-927-2400. You may also access copies of the notice and comments online at http://www.ttb.gov/wine/wine_rulemaking.shtml.

See the Public Participation section of this notice for specific instructions and requirements for submitting comments, and for information on how to request a public hearing.

FOR FURTHER INFORMATION CONTACT: N. A. Sutton, Regulations and Rulings Division, Alcohol and Tobacco Tax and Trade Bureau, 925 Lakeville St., No. 158, Petaluma, CA 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographic features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Paso Robles Westside Petition

TTB has received a petition from Holland & Knight LLP, San Francisco, California, proposing the establishment of the “Paso Robles Westside” American viticultural area in northern San Luis Obispo County, California. The petition was filed on behalf of 21 vintners and grape growers with interests in the proposed viticultural area, which is located approximately 20 miles east of the Pacific Ocean and 180 miles south of San Francisco. There are, according to the petitioner, approximately 2,425 acres within the proposed viticultural area currently dedicated to commercial vineyards.

Relationship to Existing Viticultural Areas

The proposed 179,622-acre Paso Robles Westside viticultural area is entirely within the existing 609,564-acre Paso Robles viticultural area (27 CFR 9.84), which in turn is entirely within the existing, multi-county Central Coast viticultural area (27 CFR 9.75). The Bureau of Alcohol, Tobacco and Firearms (ATF), TTB's predecessor agency, established the Paso Robles viticultural area in 1983 (see T.D. ATF-148, 48 FR 45239, October 4, 1983). In 1996, ATF expanded the Paso Robles viticultural area along its western boundary, increasing the viticultural area's size from approximately 557,000 acres to 609,564 acres (see T.D. ATF-377, 61 FR 29952, June 13, 1996).

As currently defined, the existing Paso Robles viticultural area lies in northern San Luis Obispo County, California, along the east and west sides of the Salinas River. The area forms a rough rectangle that runs from the Monterey County line in the north to just beyond the town of Santa Margarita in the south. The existing area generally extends from the Kern County line in the east to the inland side of the Santa Lucia Mountains in the west.

The proposed Paso Robles Westside viticultural area consists of the portion of the existing Paso Robles viticultural area that is west of the Salinas River. Therefore, the existing Paso Robles viticultural area boundaries located west of the Salinas River are concurrent with the northern, western, and southern boundaries of the proposed Paso Robles Westside viticultural area. The Salinas River serves as the eastern boundary of the proposed Paso Robles Westside viticultural area. If TTB establishes the proposed Paso Robles Westside viticultural area, that action would not affect the existing Paso Robles viticultural area, which would continue as an American viticultural area in its own right within its current boundary.

A portion of the western boundary of the existing Paso Robles viticultural area abuts the 6,350-acre York Mountain viticultural area (27 CFR 9.80), which is also located within the Central Coast viticultural area. If established, a portion of the western boundary of the Paso Robles Westside viticultural area would, therefore, also abut the York Mountain viticultural area. If TTB establishes the proposed Paso Robles Westside viticultural area, that action would not affect the York Mountain viticultural area; it would continue unchanged within its current boundary.

We summarize below the supporting evidence presented with the petition.

Name Evidence

The “Paso Robles” name evidence discussed in T.D. ATF-148 justifies the use of “Paso Robles” as a geographic place name for the Paso Robles viticultural area. According to that evidence, the full Spanish name, “El Paso de Robles,” translates to “the Pass of the Oaks.” People traveling between the missions at San Miguel and San Luis Obispo originally named the region, T.D. ATF-148 explains.

T.D. ATF-377, which expanded the western boundary of the original Paso Robles viticultural area, included evidence substantiating the use of the “Paso Robles” name for that expansion area. The current petition states that the proposed Paso Robles Westside viticultural area, which includes the 1996 expansion of the Paso Robles viticultural area, is locally and nationally known as the distinctive western portion of the Paso Robles viticultural area.

The petitioner explains that the Salinas River divides the Paso Robles region into east and west sides. Local residents and the media refer to “east” or “west” when describing locations within the Paso Robles region, according to the petition. In 2002, the City of Paso Robles Web site explained that water and sewer billing cycles were based on a property's location east or west of the Salinas River.

Real estate articles and advertisements, provided by the petitioner, identify some vacation rentals and residential property as being located in the Paso Robles west side region. Chanticleer Vineyard Bed and Breakfast in Paso Robles describes its location “in Paso Robles Westside among vineyards * * *.” Windward Vineyard and Tablas Creek Winery informational materials also note that their vineyards are within the Paso Robles west side area.

The October 2005 Wine Enthusiast magazine published an article by Steve Heimoff entitled “The West Side Story” that describes the growth of viticulture on the west side of the Paso Robles viticultural area. The article includes a section, “Nine Westerners to Watch,” that names and describes some wine industry members whose operations are located in the western portion of the Paso Robles viticultural area.

A March 21, 2001, article headlined “Bothersome Bottleneck” in the San Luis Obispo Tribune newspaper stated that expansion of the Niblock Bridge over the Salinas River, connecting the west and east sides of Paso Robles, was creating traffic delays and detours. An April 11, 2001, Tribune article, “Weather Worries Paso Growers” described the weather-related damage from recent cold nights to vineyards on the west side of Paso Robles. The petition also included a May 25, 1994, San Francisco Chronicle food section article, “From Plonk to Premium, Paso Robles Offers It All,” by Gerald Asher, which discussed zinfandel grapes from Paso Robles west side growers.

Boundary Evidence

The history of Paso Robles grape growing, as noted in T.D. ATF-148, started with the inception of the California mission system. Mission San Miguel, founded in 1797 and located north of the town of Paso Robles, produced wines from grapes harvested nearby. The Rotta Winery, located on the west side of Paso Robles and now known as Tablas Creek Winery, started producing wine about 1890, according to T.D. ATF-148. Also, according to T.D. ATF-148, San Luis Obispo County maintains historical records of grape plantings in the County as early as 1873.

As noted above, the proposed Paso Robles Westside viticultural area encompasses that portion of the existing Paso Robles viticultural area west of the Salinas River. The petitioner notes that the proposed Paso Robles Westside viticultural area boundary coincides with changes in topography within the larger Paso Robles viticultural area. The portion of the Paso Robles viticultural area east of the Salinas River has flatter terrain and warmer temperatures, with the Cholame Hills creating a natural eastern boundary for the existing area. In contrast, the petitioner notes that the proposed Paso Robles Westside viticultural area is nestled in the hillier terrain located between the Salinas River and the Santa Lucia Range, which forms the existing and proposed areas' western boundaries.

Distinguishing Features

The distinguishing features of the proposed Paso Robles Westside viticultural area, according to the petition, include its topography, climate, and soils. Using the Salinas River as the dividing line, the petition compares and contrasts the viticultural differences between the east and west sides of the existing Paso Robles viticultural area.

Topography

According to the provided USGS maps, elevations within the proposed Paso Robles Westside viticultural area range from a low of 591 feet at its northeast corner along the Salinas River to a high of 2,300 feet on along its western boundary line, west-southwest of the city of Paso Robles. While similar elevations are found in the portion of the Paso Robles viticultural area east of the Salinas River, the petitioner contends that the proposed Paso Robles Westside viticultural area is more rugged than regions east of the river.

A report included with the petition prepared by Dr. Thomas J. Rice, a certified soil scientist, supports the petitioner's position that the topography of the proposed Paso Robles Westside viticultural area is more rugged than the portion of the existing Paso Robles viticultural area east of the Salinas River. The report concludes that while the great majority of the terrain found in the proposed Paso Robles Westside viticultural area is made up of hills and mountains, the portion of the existing Paso Robles viticultural area east of the Salinas River is less hilly, with nearly 30 percent of its land consisting of flatter terraces and plains. Even when compared to the existing Paso Robles viticultural area as a whole, the report notes that the proposed Paso Robles Westside area has more hills and mountains and fewer terraces and plains. The report summarized these topographical differences in the table shown below.

Percentage of Terrain Types
Terrain type | Paso Robles viticultural area | Proposed Paso Robles Westside viticultural area | Paso Robles area east of Salinas River
Hills & Mountains | 64.8 | 85.0 | 56.2
Terraces | 16.3 | 9.6 | 19.2
Alluvial plains and fans, and flood plains | 7.4 | 5.3 | 8.3
Unidentified | 11.5 | 0.1 | 16.3
Totals | 100.0 | 100.0 | 100.0

In addition, the October 2005 Wine Enthusiast magazine article, “The West Side Story,” depicts the geography of the Paso Robles viticultural area west of the Salinas River as a region of remote hills, valleys, and benchlands that contrasts with the “flat as a billiard table” terrain found east of the river. Neil Collins of Tablas Creek Winery also describes the western Paso Robles viticultural area as a region of rugged topography and meager soils that supports low vineyard yields, which contrasts with the higher-yield vineyards located on the flatter terrain of the Paso Robles viticultural area's eastern region.

Climate

The petitioner states that the Salinas River marks a distinctive climatic dividing line within the established Paso Robles viticultural area, separating the area's west side from its east side. Primary influences on the weather in California, according to the petitioner, include the Pacific Ocean and the State's mountain ranges. The west side of the existing Paso Robles viticultural area, which is concurrent with the proposed Paso Robles Westside viticultural area, lies on the eastern side of the Santa Lucia Mountains, which slope downward to the Salinas River. The Pacific Ocean's marine influence permeates the Santa Lucia Mountains, bringing more moisture to the west side of the Paso Robles viticultural area, according to the petition. In contrast, the petition states, the region east of the Salinas River, with its generally lower elevation and flatter terrain, receives much less marine influence and is drier than the region west of the river.

As evidence of this climatic difference, the petitioner provided comparative rainfall data from the Western Regional Climate Center (WRCC) for both the proposed Paso Robles Westside viticultural area and the east side of the Paso Robles viticultural area. The town of Templeton served as the Westside data collection point, while the Paso Robles Airport served as the east side data collection point. The table below summarizes the rainfall data.

| Total rainfall inches 1970-1997
Proposed Paso Robles Westside viticultural area | 746.67
East side of Paso Robles | 406.78
Variance between Westside and east side | 339.89
Percentage difference | 46

The petition also included a June 30, 1994, Chicago Tribune article, entitled “California's Paso Robles Has the Climate and the Potential to Produce Fine Red Wines,” which stated that the Paso Robles wine region west of the Salinas River enjoys a moderately warm growing zone with 25 to 35 inches of annual rainfall. The article also noted that the Paso Robles wine region east of the river is hotter and drier, with as little as 10 inches of rain a year, necessitating irrigation. Informational material from the Cinnabar Vineyards and Winery included with the petition takes note of the Templeton Gap, a pass in the Coast Range that draws the cooling Pacific marine layer inland, lowering afternoon temperatures in the western region of the Paso Robles area.

Soils

In his report on the proposed Paso Robles Westside viticultural area, Dr. Rice describes and compares the soils within the existing Paso Robles viticultural area to the east and to the west of the Salinas River. Soils within the Paso Robles viticultural area vary regionally and within short distances, according to Dr. Rice. Soil differences reflect varying geology (parent material), macroclimatic conditions (slope aspect and elevation), landform position (slope steepness and shape), cropping history, and past natural vegetation.

Vineyard soils within the proposed Paso Robles Westside viticultural area, according to Dr. Rice, developed primarily from sedimentary rock parent materials of the Miocene-age Monterey Formation, rich in carbonate and silica. The carbonate-rich rocks display high calcium levels, relatively low potassium and magnesium levels, and subsoil alkaline pH levels between 7.5 and 8.2. The silica-rich rocks display medium calcium levels, relatively low potassium and magnesium levels, and subsoil acid to neutral pH levels between 6.0 and 7.0. Most native soils, Dr. Rice continues, include low levels of nitrogen and phosphorus. Also, loam, clay loam, silty clay loam, and clay soil textures predominate with varying amounts of coarse rock fragments.

Soils on the east side of the Paso Robles viticultural area vary in parent materials, according to Dr. Rice. Adjacent to the major creek and river systems, Dr. Rice continues, the soils are mainly derived from weathered alluvial sediments of the Pleistocene-age Paso Robles Formation, along with more recent alluvial deposits. Also, the soils include highly variable textures with depth, consisting of stratified layers of clay, gravel, and sand. Soils from the Paso Robles Formation, Dr. Rice explains, have medium to low levels of calcium, low potassium and magnesium levels, and acid to neutral pH levels of 6.0 to 7.0 in subsoils.

Dr. Rice concludes that more than 75 percent of the acreage within the proposed Paso Robles Westside viticultural area has comparable soil physiology, while the land east of the Salinas River has more diverse soils with no single dominant soil physiology.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Paso Robles Westside,” will be recognized under 27 CFR 4.39(i)(3) as a name of viticultural significance. The text of the proposed regulation would clarify this point. Consequently, wine bottlers using “Paso Robles Westside” in a brand name, including a trademark, or in another label reference as to the origin of the wine, must ensure that the product is eligible to use the viticultural area's name as an appellation of origin.

The name “Paso Robles” standing alone will continue as a term of viticultural significance for the entire, existing Paso Robles viticultural area. If the proposed Paso Robles Westside viticultural area is established, that action will have no effect on approved “Paso Robles” wine labels. TTB also notes that since the proposed Paso Robles Westside viticultural area is entirely within the existing Paso Robles viticultural area, any wine eligible to use “Paso Robles Westside” as an appellation of origin is also eligible to use the “Paso Robles” name standing alone.

For a wine to be labeled with a viticultural area name or with a brand name that includes a viticultural area name or other term identified as viticulturally significant in part 9 of the TTB regulations, at least 85 percent of the wine must be derived from grapes grown within the area represented by that name or other term, and the wine must meet the other conditions listed in 27 CFR 4.25(e)(3). If the wine is not eligible for labeling with the viticultural area name or other viticulturally significant term and that name or other term appears in the brand name, then the label is not in compliance and the bottler must change the brand name and obtain approval of a new label. Similarly, if the viticultural area name or other viticulturally significant term appears in another reference on the label in a misleading manner, the bottler would have to obtain approval of a new label. Accordingly, if a new label or a previously approved label uses the name “Paso Robles Westside” for a wine that does not meet the 85 percent standard, the new label will not be approved, and the previously approved label will be subject to revocation, upon the effective date of the approval of the Paso Robles Westside viticultural area.

Different rules apply if a wine has a brand name containing a viticultural area name or other viticulturally significant term that was used as a brand name on a label approved before July 7, 1986. See 27 CFR 4.39(i)(2) for details.

Conforming Amendment to 27 CFR 9.84, Paso Robles

As a legal matter, TTB has recognized “Paso Robles” as a term of viticultural significance since the establishment of the Paso Robles viticultural area in 1983. However, the regulatory text in 27 CFR 9.84 does not explicitly state that Paso Robles is a term of viticultural significance. Since we are proposing to identify “Paso Robles Westside” as a term of viticultural significance in paragraph (a) of the proposed regulatory text, we believe for purposes of clarity that it would be advisable to add a sentence to paragraph (a) of § 9.84 to state that “Paso Robles” is a term of viticultural significance in terms of that section. We also propose to include a cross reference to the viticultural significance of “Paso Robles” as set forth in § 9.84(a) in the “Paso Robles Westside” regulatory text.

Public Participation

Comments Invited

We invite comments from interested members of the public on whether we should establish the proposed Paso Robles Westside viticultural area. We are also interested in receiving comments on the sufficiency and accuracy of the name, boundary, climatic, and other required information submitted in support of the petition. Please provide any available specific information in support of your comments. We are especially interested in comments about the establishment of one viticultural area totally within another viticultural area, when both have “Paso Robles” in the name.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/wine/wine_rulemaking.shtml. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine whether to hold a public hearing.

Confidentiality

All submitted material is part of the public record and subject to disclosure. Do not enclose any material in your comments that you consider confidential or inappropriate for public disclosure.

Public Disclosure

You may view copies of this notice, the petition, the appropriate maps, and any comments we receive by appointment at the TTB Information Resource Center at 1310 G Street, NW., Washington, DC 20220. You may also obtain copies at 20 cents per 8.5- by 11-inch page. Contact our information specialist at the above address or by telephone at 202-927-2400 to schedule an appointment or to request copies of comments.

We will post this notice and any comments we receive on this proposal on the TTB Web site. All name and address information submitted with comments will be posted, including e-mail addresses. We may omit voluminous attachments or material that we consider unsuitable for posting. In all cases, the full comment will be available in the TTB Information Resource Center. To access the online copy of this notice and the submitted comments, visit at http://www.ttb.gov/wine/wine_rulemaking.shtml. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Rulings Division drafted this notice.

List of Subjects in 27 CFR Part 9

Wine.

Proposed Regulatory Amendment

For the reasons discussed in the preamble, we propose to amend 27 CFR, chapter 1, part 9, as follows:

PART 9—AMERICAN VITICULTURAL AREAS

1. The authority citation for part 9 continues to read as follows:

Authority: 27 U.S.C. 205.

Subpart C—Approved American Viticultural Areas

§ 9.84 [Amended]

2. Section 9.84 is amended by adding a sentence at the end of paragraph (a) to read as follows:

(a) Name. * * * For purposes of part 4 of this chapter, “Paso Robles” is a term of viticultural significance.

* * * * *

3. Subpart C is amended by adding a new § 9.__ to read as follows:

§ 9._ Paso Robles Westside.

(a) Name. The name of the viticultural area described in this section is “Paso Robles Westside”. For purposes of part 4 of this chapter, “Paso Robles Westside” is a term of viticultural significance. “Paso Robles” is also a term of viticultural significance under § 9.84(a).

(b) Approved maps. The 12 United Stages Geological Survey (USGS) 1:24,000 scale topographic maps used to determine the boundary of the Paso Robles Westside viticultural area are titled:

(1) San Miguel, Calif., 1948, photorevised 1979;

(2) Paso Robles, Calif., 1948, photorevised 1979;

(3) Templeton, Calif., 1948, photorevised 1979;

(4) Atascadero, Calif., 1965;

(5) Santa Margarita, Calif., 1965, revised 1993;

(6) Lopez Mountain, Calif., 1965, revised 1995;

(7) San Luis Obispo, Calif., 1965, photorevised 1979;

(8) York Mountain, Calif., 1948, photorevised 1979;

(9) Cypress Mountain, Calif., 1948, photorevised 1979;

(10) Lime Mountain, Calif., 1948, photorevised 1979;

(11) Tierra Redonda Mountain, Calif., 1948, photorevised 1979; and

(12) Bradley, Calif., 1949, photorevised 1979.

(c) Boundary. The Paso Robles Westside viticultural area is located in San Luis Obispo County, California. The boundary of the Paso Robles Westside viticultural area is as described below:

(1) The beginning point is on the San Miguel map at the intersection of the Monterey-San Luis Obispo County line and the Salinas River, along the northern boundary of section 6, T25S/R12E;

(2) From the beginning point, proceed southerly (upstream) along the western-most bank of the meandering Salinas River, crossing in succession onto the Paso Robles, Templeton, Atascadero, Santa Margarita, and the Lopez Mountain maps, to river's intersection with the R13E/R14E range line, along the eastern boundary of section 36, T29S/R13E; then

(3) Proceed south 0.67 mile along the R13E/R14E range line to its intersection with the T29S/T30S township line at the southeast corner of section 36, T29S/R13E, on the Lopez Mountain map; then

(4) Proceed west 6 miles along the T29S/T30S township line, crossing onto the San Luis Obispo map, to the line's intersection with the R12E/R13E range line at the southwest corner of section 31, T29S/R13E; then

(5) Proceed north-northwest in a straight line approximately 13 miles, crossing onto the Atascadero and then the Templeton map, to the line's intersection with the southern-most corner of the (Rancho) Paso de Robles boundary line, located near the intersection of an unnamed intermittent stream and the 1,200-foot contour line, T27S/R11E, approximately 2.1 miles southwest of the intersection of Paso Robles Creek and U.S. 101; then

(6) Proceed west-northwest for approximately 4.8 miles along the southwestern boundary line of the (Rancho) Paso de Robles, crossing onto the York Mountain map, to the boundary line's intersection with the southeast corner of section 32, T27S/R11E; then

(7) Proceed northerly along the eastern boundary lines of sections 32, 29, 20, and 18, T27S/R11E, to the northeast corner of section 18, T27S/R11E, York Mountain map; then

(8) Proceed west along the northern boundary of section 18, T27S/R11E, for approximately 0.8 mile to the boundary line's intersection with Dover Canyon Road, York Mountain map; then

(9) Proceed westerly along Dover Canyon Road to its intersection with a jeep trail and an unnamed intermittent stream at the mouth of Dover Canyon, section 14, T27S/R10E, York Mountain map; then

(10) Proceed west-northwest in a straight line for approximately 5.5 miles, crossing onto the Cypress Mountain map, to the line's intersection with the junction of the T26/27S and R9E/R10E township and range lines (also the southwest corner of section 31, T26S/R10E); then

(11) Proceed north for approximately 12 miles along the R9E/R10E line, crossing over Las Tablas Creek and the Nacimiento Reservoir on the Lime Mountain map, and continue along onto the R9E/R10E line on the Tierra Redonda Mountain map to the line's intersection with the Monterey-San Luis Obispo County line at the northwest corner of section 6; T24S/T25S; then

(12) Proceed east for approximately 12.3 miles along the Monterey-San Luis Obispo County line, crossing over the Bradley map, and return to the beginning point on the San Miguel map.

Dated: December 5, 2006.
John J. Manfreda,
Administrator.

[FR Doc. E7-983 Filed 1-23-07; 8:45 am]

BILLING CODE 4810-31-P